ENVIRONMENTAL PROTECTION AGENCY

[EPA-HQ-ORD-2021-0562; FRL-11245-01-ORD]

Availability of the Draft IRIS Toxicological Review of Perfluorohexane Sulfonate (PFHxS) (PFHxS) and Related Salts; Correction

AGENCY: Environmental Protection Agency (EPA).

ACTION: Notice of public comment period; correction.

SUMMARY: The Environmental Protection Agency (EPA) published a document in the Federal Register of July 24, 2023, concerning request for comments on the release of the draft IRIS Toxicological Review of Perfluorohexane Sulfonate (PFHxS) and Related Salts. The document contained the incorrect chemical name six times, including the document heading.

DATES: The public comment period began on July 24, 2023. Comments must be received on or before September 22, 2023.

FOR FURTHER INFORMATION CONTACT: For information on the public comment period, contact the ORD Docket at the EPA Headquarters Docket Center; telephone: 202-566-1752; facsimile: 202-566-9744; or email: Docket_ORD@epa.gov.

For technical information on the draft IRIS Toxicological Review of Perfluorohexanesulfonic acid (PFHxS) and Related Salts, contact the IRIS Hotline; email: IRIS_HOTLINE@epa.gov. The IRIS Program will provide updates through the IRIS website (https://www.epa.gov/iris) and via EPA's IRIS listserv. To register for the IRIS listserv, visit the IRIS website (https://www.epa.gov/iris) or visit https://www.epa.gov/iris/forms/staying-connected-integrated-risk-information-system#connect.

For questions about the peer review, please contact: Laurie Waite, ERG, by email at peerreview@erg.com (subject line: EPA PFAS assessments peer review); or by phone: (781) 674-7362.

SUPPLEMENTARY INFORMATION:

Correction

In the Federal Register issue of July 24, 2023, in FR Doc. 2023-15613, on page 47496, make the following corrections:

1. In the first column correct the document heading to read:

Availability of the Draft IRIS Toxicological Review of Perfluorohexanesulfonic Acid (PFHxS) and Related Salts

2. In the first and second columns remove the text “Perfluorohexane Sulfonate” five times and add in its place the text “Perfluorohexanesulfonic Acid”.

Wayne Cascio,
Director, Center for Public Health and Environmental Assessment.

[FR Doc. 2023-16404 Filed 8-1-23; 8:45 am]

BILLING CODE 6560-50-P